DEPARTMENT OF ENERGY

Federal Energy Regulatory Commission

[Docket No. RP00--394-001]

KO Transmission Company; Notice of Tariff Filing

September 6, 2000.

Take notice that on August 25, 2000, KO Transmission Company (KOT) tendered for filing as part of its FERC Gas Tariff, Original Volume No. 1, the following revised tariff sheets, to be effective March 27, 2000:

Second Revised Sheet No. 50

Second Revised Sheet No. 51

Second Revised Sheet No. 52

Second Revised Sheet No. 53

Second Revised Sheet No. 54

Pursuant to the Commission's Order No. 637, KOT has modified its capacity release provisions, as set forth in GTC Section 4 of its tariff, to remove the maximum price cap for short-term capacity release transactions. The pertinent tariff provisions are to be effective from March 27, 2000 through September 30, 2002, unless otherwise extended by the Commission.

Any person desiring to protest this filing should file a protest with the Federal Energy Regulatory Commission, 888 First Street, N.E., Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-23287 Filed 9-11-00; 8:45 am]

BILLING CODE 6717-01-M